DEPARTMENT OF COMMERCE

National Oceanic and Atmospheric Administration

50 CFR Part 660

[Docket No. 240423-0117]

RIN 0648-BM85

Magnuson-Stevens Act Provisions; Fisheries off West Coast States; Pacific Coast Groundfish Fishery; 2024 Harvest Specifications for Pacific Whiting, and 2024 Pacific Whiting Tribal Allocation

AGENCY: National Marine Fisheries Service (NMFS), National Oceanic and Atmospheric Administration (NOAA), Commerce.

ACTION: Proposed rule; request for comments.

SUMMARY: NMFS issues this proposed rule for the 2024 Pacific whiting fishery under the authority of the Pacific Coast Groundfish Fishery Management Plan, the Magnuson-Stevens Fishery Conservation and Management Act, the Pacific Whiting Act of 2006 (Whiting Act), and other applicable laws. This proposed rule would establish the domestic 2024 harvest specifications for Pacific whiting including the 2024 tribal allocation for the Pacific whiting fishery, the non-tribal sector allocations, and set-asides for incidental mortality in research activities and non-groundfish fisheries. The proposed measures are intended to help prevent overfishing, achieve optimum yield, ensure that management measures are based on the best scientific information available, and provide for the implementation of tribal treaty fishing rights.

DATES: Comments on this proposed rule must be received no later than May 15, 2024.

ADDRESSES: A plain language summary of this proposed rule is available at https://www.regulations.gov/docket/NOAA-NMFS-2024-0044. You may submit comments on this document, identified by NOAA-NMFS-2024-0044, by any of the following methods:

Electronic Submission: Submit all electronic public comments via the Federal e-Rulemaking Portal. Visit https://www.regulations.gov and type “NOAA-NMFS-2024-0044” in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Background information for this action and analytical documents for the Regulatory Flexibility Act (RFA), and National Environmental Policy Act (NEPA) are available at the NMFS West Coast Region website at: https://www.fisheries.noaa.gov/action/2024-harvest-specifications-pacific-whiting-and-2024-tribal-allocation.

NEPA documents for West Coast groundfish actions are also available at: https://www.fisheries.noaa.gov/west-coast/laws-and-policies/groundfish-actions-nepa-documents.

Additional background information for the Pacific Hake/Whiting Treaty can be found at: https://www.fisheries.noaa.gov/west-coast/laws-policies/pacific-hake-whiting-treaty.

FOR FURTHER INFORMATION CONTACT: Colin Sayre, phone: 206-526-4656, and email: Colin.Sayre@noaa.gov.

SUPPLEMENTARY INFORMATION:

Background

This proposed rule announces the adjusted coastwide whiting Total Allowable Catch (TAC) of 555,000 metric tons (mt), the adjusted U.S. TAC of 410,034 mt, and proposes domestic 2024 Pacific whiting harvest specifications, including the 2024 tribal allocation of 71,755.95 mt, announces the preliminary allocations for three non-tribal commercial whiting sectors, and proposes set-asides for incidental mortality in research activities and the state-managed pink shrimp (non-groundfish) fishery. The non-tribal Pacific whiting fishery opens on May 1 of each year. The tribal and non-tribal allocations for Pacific whiting, as well as set-asides, would be effective until December 31, 2024.

Pacific Whiting Agreement

The transboundary stock of Pacific whiting is managed through the Agreement Between the Government of the United States of America and the Government of Canada on Pacific Hake/Whiting of 2003 (Agreement). The Agreement establishes bilateral management bodies to implement the terms of the Agreement, including the Joint Management Committee (JMC), which recommends the annual catch level for Pacific whiting.

In addition to the JMC, the Agreement establishes several other bilateral management bodies to set whiting catch levels: the Joint Technical Committee (JTC), which conducts the Pacific whiting stock assessment; the Scientific Review Group (SRG), which reviews the stock assessment; and the Advisory Panel (AP), which provides stakeholder input to the JMC.

The Agreement establishes a default harvest policy of F-40 percent, which means a fishing mortality rate that would reduce the spawning biomass to 40 percent of the estimated unfished level. The Agreement also allocates 73.88 percent of the Pacific whiting TAC to the United States and 26.12 percent of the TAC to Canada. Based on recommendations from the JTC, SRG, and AP, the JMC determines the overall Pacific whiting TAC by March 25th of each year. NMFS, under the delegation of authority from the Secretary of Commerce, in consultation with the Secretary of State, has the authority to accept or reject this recommendation.

2024 Stock Assessment and Scientific Review

The JTC completed a stock assessment for Pacific whiting in February 2024. The assessment was reviewed by the SRG during a 4-day meeting held in person and online in Nanaimo, British Columbia, on February 6-9, 2024 (see ADDRESSES for the report; Status of the Pacific hake (whiting) stock in U.S. and Canadian waters in 2024). The SRG considered the 2024 assessment report and appendices to represent the best scientific information available for Pacific hake/whiting.

The stock assessment model for 2024 has the same population dynamics structure as the 2023 model. The model is fit to an acoustic survey index of biomass (abundance), a relative index of 1-year aged fish, annual commercial catch data, and age-composition data from the survey and commercial fisheries. Acoustic surveys are conducted every two years. The most recent survey occurred in 2023 and yielded the third lowest index of Pacific whiting abundance in the time series of surveys from 1995 to 2023.

Within the assessment model, the median estimate of female spawning biomass at the start of 2024 is 1,884,950 mt. This is an upward shift from the most recent estimate for the 2023 female spawning biomass of 1,335,485 mt.

The median estimate of the 2024 relative spawning biomass (female spawning biomass at the start of 2024 divided by that at unfished equilibrium) is 99 percent, but is highly uncertain. After declining from 2018 to 2022, the median relative spawning biomass increased in 2023 and 2024, due to the estimated above average, but uncertain, size of the 2020 and 2021 age cohorts entering maturity.

The estimated probability that the spawning biomass at the start of 2024 is below the Agreement's F-40 percent default harvest rate (40 percent of unfished levels), is 1.3 percent, and the probability that relative fishing intensity exceeded the spawning potential ratio at 40 percent unfished levels in 2023 is 0.4 percent. The joint probability that the relative spawning stock biomass is both below 40 percent of unfished levels, and that fishing mortality is above the relative fishing intensity of the Agreement's F-40 percent default harvest rate is 0.2 percent.

The 2024 stock assessment indicated that despite estimates of a healthy Pacific whiting stock status, low abundance from the 2023 acoustic survey and low fishery catch in Canada (14.4 percent attainment) suggest a population structure not conducive to fully achieving harvest allocations in recent years.

2024 Pacific Whiting Coastwide and U.S. TAC Recommendation

The AP and JMC met in Lynnwood, Washington February 27-29, 2024, to develop advice on a 2024 coastwide TAC. The AP provided its 2024 TAC recommendation to the JMC on February 29, 2024. The JMC reviewed the advice of the JTC, the SRG, and the AP, and agreed on a TAC recommendation for transmittal to the United States and Canadian Governments.

The Agreement directs the JMC to base the catch limit recommendation on the default harvest rate unless scientific evidence demonstrates that a different rate is necessary to sustain the offshore Pacific whiting resource. After consideration of the 2024 stock assessment and other relevant scientific information, the JMC did not use the default harvest rate, and instead agreed on a more conservative approach. There were two primary reasons for choosing a TAC well below the level of F-40 percent: first, uncertainty regarding the size of the 2020 and 2021 year-classes led the JMC to conclude that using the default harvest rate could be too risky if these cohorts are smaller than estimated; and second, the fact that the survey biomass was the third-lowest in the survey time series. The JMC concluded that both of these factors warranted setting the coastwide TAC below the 2023 value of 625,000 mt, and lower than the level that would result from application of the default harvest rate. This conservative approach was endorsed by the AP, and is consistent with Article II(5)(b) of the Agreement.

The Agreement allows an adjusted TAC when either country's catch exceeds or is less than its TAC in the prior year. If the catch is in excess of the country's TAC, the amount of the overage is deducted from that country's TAC in the following year. If catch falls short of the country's TAC, a portion of the shortfall, is carried over and added to the country's TAC for the following year. Under the Agreement, carryover adjustments cannot not exceed 15 percent of a party country's unadjusted TAC for the year in which the shortfall occurred. In 2023, both countries did not fully attain their respective TACs; the percentage of the U.S. TAC attained for 2023 is detailed in the Initial Regulatory Flexibility Analysis (see the ADDRESSES section), which is summarized in the CLASSIFICATION section below. For the 2024 whiting fishery, the JMC recommended a coastwide TAC of 473,513 mt prior to adjustment. Based on Article III(2) of the Agreement, the 73.88 percent U.S. share of the unadjusted coastwide TAC is 349,831 mt. Consistent with Article II(5)(b) of the Agreement, a carryover of 60,203 mt was added to the U.S. share for an adjusted U.S. TAC of 410,034 mt. The 26.12 percent Canadian share of the unadjusted coastwide TAC, consistent with Article III(2) of the Agreement, is 123,681 mt, and a carryover of 21,285 mt was added to the Canadian share, for an adjusted Canadian TAC of 144,966 mt. The total coastwide adjusted TAC is 555,000 mt for 2024.

This recommendation is consistent with the best available scientific information, and provisions of the Agreement and the Whiting Act. The recommendation was transmitted via letter to the United States and Canadian Governments on March 05, 2024. NMFS, under delegation of authority from the Secretary of Commerce, approved the TAC recommendation of 410,034 mt for U.S. fisheries on March 29, 2024.

Tribal Allocation

The regulations at 50 CFR 660.50(d) identify the procedures for implementing the treaty rights that Pacific Coast treaty Indian tribes have to harvest groundfish in their usual and accustomed fishing areas in U.S. waters. Tribes with treaty fishing rights in the area covered by the Pacific Coast Groundfish Fishery Management Plan (FMP) request allocations, set-asides, or regulations specific to the tribes during the Council's biennial harvest specifications and management measures process. The regulations state that the Secretary will develop tribal allocations and regulations in consultation with the affected tribe(s) and, insofar as possible, with tribal consensus.

NMFS allocates a portion of the U.S. TAC of Pacific whiting to the tribal fishery, following the process established in 50 CFR 660.50(d). The tribal allocation is subtracted from the U.S. Pacific whiting TAC before allocation to the non-tribal sectors.

Four Washington coastal treaty Indian tribes—the Makah Indian Tribe, the Quileute Indian Tribe, the Quinault Indian Nation, and the Hoh Indian Tribe (collectively, the “Treaty Tribes”)—can participate in the tribal Pacific whiting fishery. Tribal allocations of Pacific whiting have been based on discussions with the Treaty Tribes regarding their intent for those fishing years. The Hoh Tribe has not expressed an interest in participating in the Pacific whiting fishery to date. The Quileute Tribe and the Quinault Indian Nation have expressed interest in beginning to participate in the Pacific whiting fishery at a future date. To date, only the Makah Tribe has prosecuted a tribal fishery for Pacific whiting, and has harvested Pacific whiting since 1996 using midwater trawl gear. Table 1 below provides a recent history of U.S. TACs and annual tribal allocation in metric tons (mt).

¹ Beginning in 2012, the United States started using the term Total Allowable Catch, or TAC, based on the Agreement between the Government of the United States of America and the Government of Canada on Pacific Hake/Whiting. Prior to 2012, the terms Optimal Yield (OY) and Annual Catch Limit (ACL) were used.

Table 1—U.S. Total Allowable Catch and Annual Tribal Allocation in Metric Tons (mt)
Year | U.S. TAC ¹ (mt) | Tribal allocation (mt)
2010 | 193,935 | 49,939
2011 | 290,903 | 66,908
2012 | 186,037 | 48,556
2013 | 269,745 | 63,205
2014 | 316,206 | 55,336
2015 | 325,072 | 56,888
2016 | 367,553 | 64,322
2017 | 441,433 | 77,251
2018 | 441,433 | 77,251
2019 | 441,433 | 77,251
2020 | 424,810 | 74,342
2021 | 369,400 | 64,645
2022 | 402,646 | 70,463
2023 | 461,750 | 80,806

In 2009, NMFS, the states of Washington and Oregon, and the Treaty Tribes started a process to determine the long-term tribal allocation for Pacific whiting. However, they have not yet determined a long-term allocation. This rule proposes the 2024 tribal allocation of Pacific whiting. This allocation does not represent a long-term allocation and is not intended to set precedent for future allocations.

In exchanges between NMFS and the Treaty Tribes during September 2023, the Makah Tribe indicated their intent to participate in the tribal Pacific whiting fishery in 2024. The Quinault Indian Nation, the Quileute Indian Tribe and the Hoh Indian Tribe informed NMFS in November and December 2023 that they will not participate in the 2024 fishery. NMFS proposes a tribal allocation that accommodates the tribal request, specifically 17.5 percent of the U.S. TAC. The proposed 2024 adjusted U.S. TAC is 410,034 mt, and therefore the proposed 2024 tribal allocation is 71,755.95 mt. NMFS has determined that the current scientific information regarding the distribution and abundance of the coastal Pacific whiting stock indicates the 17.5 percent is within the range of the tribal treaty right to Pacific whiting.

Non-Tribal Research and Bycatch Set-Asides

The U.S. non-tribal whiting fishery is managed under the Council's Pacific Coast Groundfish FMP. Each year, the Council recommends a set-aside to accommodate incidental mortality of Pacific whiting in research activities and the state-managed pink shrimp fishery, based on estimates of scientific research catch and estimated bycatch mortality in non-groundfish fisheries. At its November 2023 meeting, the Council recommended an incidental mortality set-aside of 750 mt for 2024. This set-aside is unchanged from the 750 mt set-aside amount for incidental mortality in 2023. This rule proposes the Council's recommendations.

Non-Tribal Harvest Guidelines and Allocations

In addition to the tribal allocation, this proposed rule establishes the fishery harvest guideline (HG), also called the non-tribal allocation. The proposed 2024 fishery HG for Pacific whiting is 337,528.05 mt. This amount was determined by deducting the 71,755.95 mt tribal allocation and the 750 mt allocation for scientific research catch and fishing mortality in non-groundfish fisheries from the U.S. adjusted TAC of 410,034 mt. Federal regulations further allocate the fishery HG among the three non-tribal sectors of the Pacific whiting fishery: the catcher/processor (C/P) Co-op Program, the Mothership (MS) Co-op Program, and the Shorebased Individual Fishing Quota (IFQ) Program. The C/P Co-op Program is allocated 34 percent (114,759.53 mt for 2024), the MS Co-op Program is allocated 24 percent (81,006.73 mt for 2024), and the Shorebased IFQ Program is allocated 42 percent (141,761.78 mt for 2024). The fishery south of 42° N lat. may not take more than 7,088 mt (5 percent of the Shorebased IFQ Program allocation) prior to May 1, the start of the primary Pacific whiting season north of 42° N lat.

Table 2—2024 Proposed Pacific Whiting Allocations in Metric Tons
Sector | 2024 Pacific whiting allocation (mt)
Tribal | 71,755.95
Catcher/Processor (C/P) Co-op Program | 114,759.53
Mothership (MS) Co-op Program | 81,006.73
Shorebased IFQ Program | 141,761.78

This proposed rule would be implemented under the statutory and regulatory authority of sections 304(b) and 305(d) of the Magnuson-Stevens Act, the Pacific Whiting Act of 2006, the regulations governing the groundfish fishery at 50 CFR 660.5-660.360, and other applicable laws. Additionally, with this proposed rule, NMFS would ensure that the fishery is managed in a manner consistent with treaty rights of the four Treaty Tribes to fish in their “usual and accustomed grounds and stations” in common with non-tribal citizens. United States v. Washington, 384 F. Supp. 313 (W.D. 1974).

Classification

NMFS notes that the public comment period for this proposed rule is 15 days. Finalizing the Pacific whiting harvest specifications close to the start of the Pacific whiting fishing season on May 1st provides the industry with more time to plan and execute the fishery and gives them earlier access to the finalized allocations of Pacific whiting. Given the considerably short timeframe between the JMC meeting in late February—early March and the start of the primary whiting season on May 1, NMFS has determined there is good cause for a 15-day comment period to best balance the interest in allowing the public adequate time to comment on the proposed measures with the benefits of implementing the set-aside management measures, and Pacific whiting allocations in a timely manner. Timely implementation of this action will ensure the tribal and non-tribal commercial fishery sectors receive their full Pacific whiting allocations with sufficient time to maximize catch attainment within their respective fisheries during the 2024 whiting season. The NMFS Assistant Administrator has determined that this proposed rule is consistent with the Pacific Coast Groundfish FMP, other provisions of the Magnuson-Stevens Act, and other applicable law, subject to further consideration after public comment. In making its final determination, NMFS will take into account the complete record, including comments received during the comment period for this proposed rule.

Pursuant to Executive Order 13175, this proposed rule was developed after meaningful consultation and collaboration with tribal officials from the area covered by the Pacific Coast Groundfish FMP. Under the Magnuson-Stevens Act at 16 U.S.C. 1852(b)(5), one of the voting members of the Pacific Council must be a representative of an Indian tribe with federally recognized fishing rights from the area of the Council's jurisdiction. In addition, regulations implementing the Pacific Coast Groundfish FMP establish a procedure by which the tribes with treaty fishing rights in the area covered by the Pacific Coast Groundfish FMP request allocations or regulations specific to the Tribes, in writing, before the first of the two meetings at which the Council considers groundfish management measures. The regulations at 50 CFR 660.50(d) further state that the Secretary will develop tribal allocations and regulations under this paragraph in consultation with the affected tribe(s) and, insofar as possible, with tribal consensus. The tribal management measures in this proposed rule have been developed following these procedures.

The Office of Management and Budget has determined that this proposed rule is not significant for purposes of Executive Order 12866.

A range of potential total harvest levels for Pacific whiting has been considered in the Final Environmental Impact Statement for Harvest Specifications and Management Measures for 2015-2016 and Biennial Periods thereafter (2015/16 FEIS), and in the Environmental Assessment (EA) and the Regulatory Impact Review (RIR) included in the analytical document for Amendment 30 to the Pacific Coast Groundfish Fishery Management Plan and 2023-2024 Harvest Specifications and Management Measures. These documents are available from NMFS (see ADDRESSES). The 2015/16 FEIS examined the harvest specifications and management measures for 2015-16 and gave 10-year projections for routinely adjusted harvest specifications and management measures. The 10-year projections were produced to evaluate the impacts of the ongoing implementation of harvest specifications and management measures and to evaluate the impacts of the routine adjustments that are the main component of each biennial cycle. The EA for the 2023-24 cycle builds on the 2015/16 FEIS and focuses on the harvest specifications and management measures that were not within the scope of the 10-year projections in the 2015/16 FEIS.

An Initial Regulatory Flexibility Analysis (IRFA) was prepared for this action, as required by section 603 of the Regulatory Flexibility Act (RFA). The IRFA describes the economic impact this proposed rule, if adopted, would have on small entities. A description of the action, why it is being considered, and the legal basis for this action is contained in the SUMMARY section and at the beginning of the SUPPLEMENTARY INFORMATION section of the preamble. A summary of the IRFA follows. Copies of the IRFA are available from NMFS (See ADDRESSES).

Under the RFA, the term “small entities” includes small businesses, small organizations, and small governmental jurisdictions. For purposes of complying with the RFA, NMFS has established size criteria for entities involved in the fishing industry that qualify as small businesses. A business involved in fish harvesting is a small business if it is independently owned and operated and not dominant in its field of operation (including its affiliates) and if it has combined annual receipts not in excess of $11 million for all its affiliated operations worldwide (80 FR 81194, December 29, 2015; 50 CFR part 200). In addition, the Small Business Administration has established size criteria for other entities that may be affected by this proposed rule. A wholesale business servicing the fishing industry is a small business if it employs 100 or fewer persons on a full time, part time, temporary, or other basis, at all its affiliated operations worldwide. A small organization is any nonprofit enterprise that is independently owned and operated and is not dominant in its field. A seafood processor is a small business if it is independently owned and operated, not dominant in its field of operation, and employs 750 or fewer persons on a full time, part time, temporary, or other basis, at all its affiliated operations worldwide (See NAICS 311710 at 13 CFR 121.201). For purposes of rulemaking, NMFS is also applying the seafood processor standard to C/Ps because whiting C/Ps earn the majority of the revenue from processed seafood product.

Description and Estimate of the Number of Small Entities to Which the Rule Applies, and Estimate of Economic Impacts by Entity Size and Industry

This proposed rule affects how Pacific whiting is allocated to the following sectors/programs: Tribal, Shorebased IFQ Program Trawl Fishery, MS Co-op Program Whiting At-sea Trawl Fishery, and C/P Co-op Program Whiting At-sea Trawl Fishery. The amount of Pacific whiting allocated to these sectors is based on the U.S. TAC, which is developed and approved through the process set out in the Agreement and the Whiting Act.

We expect one tribal entity, the Makah Tribe, to fish for Pacific whiting in 2024. Tribes are not considered small entities for the purposes of RFA. Impacts to tribes are nevertheless considered in this analysis.

This proposed rule directly affects the C/P Co-op Program, composed of 10 C/P endorsed permits owned by three companies that have formed a single co-op. These co-ops are considered large entities both because they have participants that are large entities and because they have in total more than 750 employees worldwide including affiliates.

This proposed rule also directly affects the Shorebased IFQ Program. As of March 2024, the Shorebased IFQ Program is composed of 163 Quota Share permits/accounts (122 of which were allocated whiting quota pounds), and 48 licensed first receiver sites, of which 16 sites are owned by 10 companies that receive whiting. Of these companies that receive whiting, none are considered small entities.

This proposed rule also directly affect participants in the MS Co-op Program, the limited access program that applies to eligible harvesters and processors in the MS sector of the Pacific whiting at-sea trawl fishery. This program consists of six MS processor permits, and a catcher vessel fleet currently composed of a single co-op, with 34 Mothership/Catcher Vessel (MS/CV) endorsed permits (with three permits each having two catch history assignments).

Although there are three non-tribal sectors (the C/P Co-op Program, the Shorebased IFQ Program, and the MS Co-op Program), many companies participate in two sectors and some participate in all three sectors, as well as other non-whiting groundfish fisheries. As part of the permit application processes for the non-tribal fisheries, NMFS asks permit applicants if they considered themselves a small business based on a review of the Small Business Administration size criteria, and asks each permit applicant to provide detailed ownership information. Data on employment worldwide, including affiliates, are not available for these companies, which generally operate in Alaska as well as on the West Coast in non-whiting groundfish fisheries, and which may have operations in other countries, as well. NMFS requests that limited entry permit holders self-report their size status. For 2024, all 10 C/P permits reported that they are not small businesses, as did 8 mothership catcher vessels. There is substantial, but not complete, overlap between permit ownership and vessel ownership so there may be a small number of additional small entity vessel owners who will be impacted by this rule. After accounting for cross-fishery participation, multiple Quota Share account holders, and affiliation through ownership, NMFS estimates that there are 103 non-tribal entities directly affected by these proposed regulations, 89 of which are considered small entities.

This rule will allocate Pacific whiting between tribal and non-tribal harvesters (a mixture of small and large businesses). Tribal fisheries consist of a mixture of fishing activities that are similar to the activities that non-tribal fisheries undertake. Tribal harvests may be delivered to both shoreside plants and motherships for processing. These processing facilities also process fish harvested by non-tribal fisheries. The effect of the tribal allocation on non-tribal fisheries will depend on the level of tribal harvests relative to their allocation and the reapportionment process. If the tribes do not harvest their entire allocation, there are opportunities during the year to reapportion unharvested tribal amounts to the non-tribal fleets. For example, in 2023 NMFS reapportioned 45,000 mt of the original 80,806 mt tribal allocation (88 FR 75238, November 2, 2023). This reapportionment was based on conversations with the tribes and the best information available at the time, which indicated that this amount would not limit tribal harvest opportunities for the remainder of the year. The reapportioning process allows unharvested tribal allocations of Pacific whiting to be fished by the non-tribal fleets, benefitting both large and small entities. The revised Pacific whiting allocations for 2023 following the reapportionment were: Tribal 35,806 mt, C/P Co-op 144,566 mt; MS Co-op 102,047 mt; and Shorebased IFQ Program 178,581 mt.

The prices for Pacific whiting are largely determined by the world market because most of the Pacific whiting harvested in the United States is exported. The U.S. Pacific whiting TAC is highly variable, as is subsequent attainment of sector allocations, and ex-vessel revenues. For the years 2013 to 2023, the U.S. non-tribal commercial fishery sectors averaged harvests of approximately 271,392 mt, and revenues of $54.1 million annually. The 2023 U.S. non-tribal commercial fishery sectors attained a Pacific whiting catch of approximately 239,665 mt out of a harvest guideline of 380,194 mt (63 percent attainment), resulting in a total revenue of $46.6 million. The tribal fishery landed less than 1,000 mt out of the 2023 tribal allocation of 80,806 mt.

Impacts to the U.S. non-tribal fishery are measured with an estimate of ex-vessel revenue. The proposed adjusted coastwide TAC of 555,000 mt would result in an adjusted U.S. TAC of 410,034 mt and, after deduction of the tribal allocation and the incidental catch set-aside, a U.S. non-tribal harvest guideline of 337,528.05 mt. Using the 2023 weighted-average non-tribal price of $194.74 per metric ton, the proposed 2024 adjusted U.S. TAC is estimated to result in a potential ex-vessel revenue of $65.7 million for the U.S. non-tribal fishing fleet if fully harvested (100 percent attainment).

Impacts to tribal catcher vessels who elect to participate in the tribal fishery are measured with an estimate of ex-vessel revenue. In lieu of more complete information on tribal deliveries, total ex-vessel revenue is estimated with the 2023 average ex-vessel price of Pacific whiting, which was $194.74 per mt. At that price, the proposed 2024 tribal allocation of 71,755.95 mt would potentially have an ex-vessel value of $13.97 million if fully harvested.

A Description of any Significant Alternatives to the Proposed Rule That Accomplish the Stated Objectives of Applicable Statutes and That Minimize any Significant Economic Impact of the Proposed Rule on Small Entities

For the allocations to the non-tribal commercial sectors, the Pacific whiting tribal allocation, and set-asides for research and incidental mortality NMFS considered two alternatives: the “No Action” alternative and the “Proposed Action” alternative.

For allocations to non-tribal commercial sectors, the No Action alternative would mean that NMFS would not implement allocations to the non-tribal sectors based on the JMC recommended U.S. TAC, and this would not fulfill NMFS' responsibility to manage the U.S. fishery. This is contrary to the Whiting Act and the Agreement, both of which require sustainable management of the Pacific whiting resource. Therefore, the No Action alternative for allocations to non-tribal commercial sectors received no further consideration.

For set-asides for research and incidental mortality, the No Action alternative would mean that NMFS would not implement the set-aside amount of 750 mt recommended by the Council. Not implementing set-asides of the US whiting TAC would mean incidental mortality of the fish in research activities and non-groundfish fisheries would not be accommodated. This would be inconsistent with the Council's recommendation, the Pacific Coast Groundfish Fishery Management Plan, the regulations setting the framework governing the groundfish fishery, and NMFS' responsibility to manage the fishery. Therefore, the No Action alternative for set-asides received no further consideration.

NMFS did not consider a broader range of alternatives to the proposed tribal allocation because the tribal allocation is a percentage of the U.S. TAC and is based primarily on the requests of the Tribes. These requests reflect the level of participation in the fishery that will allow the Tribes to exercise their treaty right to fish for Pacific whiting. Under the Proposed Action alternative, NMFS proposes to set the tribal allocation percentage at 17.5 percent, as requested by the Tribes. This would yield a tribal allocation of 71,755.95 mt for 2024. Consideration of a percentage lower than the tribal request of 17.5 percent is not appropriate in this instance. As a matter of policy, NMFS has historically supported the harvest levels requested by the Tribes. Based on the information available to NMFS, the tribal request is within their tribal treaty rights. A higher percentage would arguably also be within the scope of the treaty right. However, a higher percentage would unnecessarily limit the non-tribal fishery.

Under the No Action alternative, NMFS would not make an allocation to the tribal sector. This alternative was considered, but the regulatory framework provides for a tribal allocation on an annual basis only. Therefore, the No Action alternative would result in no allocation of Pacific whiting to the tribal sector in 2024, which would be inconsistent with NMFS' responsibility to manage the fishery consistent with the Tribes' treaty rights. Given that there is a tribal request for allocation in 2024, this No Action alternative for allocation to the tribal sector received no further consideration.

Regulatory Flexibility Act Determination of No Significant Impact

NMFS has preliminarily determined this proposed rule would not have a significant economic impact on small entities. This rule is similar to previous rulemakings concerning Pacific whiting. In the context of an internationally set TAC, this rule concerns the amount of the U.S. TAC that should be allocated to the tribal fishery and a set-aside for research and bycatch in non-groundfish fisheries, and announces Pacific whiting allocations for the non-tribal fishery for 2024. Pacific whiting allocations to the non-tribal sectors provide additional economic opportunity to the entities considered in this analysis to prosecute a quota species within a multi-species groundfish catch share program. In addition, the reapportioning process allows unharvested tribal allocations of Pacific whiting, fished by small entities, to be fished by the non-tribal fleets, potentially providing economic benefits to both large and small entities. NMFS believes this rule will not adversely affect small entities. Thus, as discussed above, this action would not have a significant economic impact on small entities. Nonetheless, NMFS has prepared an IRFA and is requesting comments on this conclusion.

NMFS has prepared the IRFA, as described above, and is requesting comments on this conclusion. See ADDRESSES.

This proposed rule contains no information collection requirements under the Paperwork Reduction Act of 1995.

No Federal rules have been identified that duplicate, overlap, or conflict with this action.

List of Subjects in 50 CFR Part 660

Fisheries, Fishing, Indian Fisheries.

Dated: April 24, 2024
Samuel D. Rauch III,
Deputy Assistant Administrator for Regulatory Programs, National Marine Fisheries Service.

For the reasons set out in the preamble, 50 CFR part 660 is proposed to be amended as follows:

PART 660-FISHERIES OFF WEST COAST STATES

1. The authority citation for part 660 continues to read as follows:

Authority: 16 U.S.C. 1801 et seq., 16 U.S.C. 773 et seq., and 16 U.S.C. 7001 et seq.

2. In § 660.50, revise paragraph (f)(4) to read as follows:

§ 660.50 Pacific Coast treaty Indian fisheries.

* * * * *

(f) * * *

(4) Pacific whiting. The tribal allocation for 2024 is 71,755.95 mt.

* * * * *

3. Revise Table 2a to part 660, subpart C-2024, to read as follows:

Table 2a to Part 660, Subpart C—2024, Specifications of OFL, ABC, ACL, ACT and Fishery Harvest Guidelines (Weights in Metric Tons)
[Capitalized stocks are overfished]
Stocks | Area | OFL | ABC | ACL ᵃ | Fishery HG ᵇ
YELLOWEYE ROCKFISH ᶜ | Coastwide | 91 | 76 | 53.3 | 42.6
Arrowtooth Flounder ᵈ | Coastwide | 20,459 | 14,178 | 14,178 | 12,083
Big Skate ᵉ | Coastwide | 1,492 | 1,267 | 1,267 | 1,207.2
Black Rockfish ᶠ | California (S of 42° N lat) | 364 | 329 | 329 | 326.6
Black Rockfish ᵍ | Washington (N of 46°16′ N lat) | 319 | 289 | 289 | 270.5
Bocaccio ʰ | S of 40°10′ N lat | 2,002 | 1,828 | 1,828 | 1,779.9
Cabezon ⁱ | California (S of 42° N lat) | 185 | 171 | 171 | 169.4
California Scorpionfish ʲ | S of 34°27′ N lat | 280 | 252 | 252 | 248
Canary Rockfish ᵏ | Coastwide | 1,434 | 1,296 | 12,296 | 1,227.4
Chilipepper ˡ | S of 40°10′ N lat | 2,346 | 2,121 | 2,121 | 2,023.4
Cowcod ᵐ | S of 40°10′ N lat | 112 | 79 | 79 | 67.8
Cowcod | (Conception) | 93 | 67 | NA | NA
Cowcod | (Monterey) | 19 | 12 | NA | NA
Darkblotched Rockfish ⁿ | Coastwide | 857 | 782 | 782 | 758.7
Dover Sole ᵒ | Coastwide | 55,859 | 51,949 | 50,000 | 48,402.9
English Sole ᵖ | Coastwide | 11,158 | 8,960 | 8,960 | 8,700.5
Lingcod q | N of 40°10′ N lat | 4,455 | 3,854 | 3,854 | 3,574.4
Lingcod ʳ | S of 40°10′ N lat | 855 | 740 | 722 | 706.5
Longnose Skate ˢ | Coastwide | 1,955 | 1,660 | 1,660 | 1,408.7
Longspine Thornyhead ᵗ | N of 34°27′ N lat | 4,433 | 2,846 | 2,162 | 2,108.3
Longspine Thornyhead ᵘ | S of 34°27′ N lat |  |  | 683 | 680.8
Pacific Cod ᵛ | Coastwide | 3,200 | 1,926 | 1,600 | 1,094
Pacific Ocean Perch ʷ | N of 40°10′ N lat | 4,133 | 3,443 | 3,443 | 3,297.5
Pacific Whiting ˣ | Coastwide | 747,588 | x/ | x/ | 337,528.05
Petrale Sole ʸ | Coastwide | 3,563 | 3,285 | 3,285 | 2,898.8
Sablefish ᶻ | N of 36° N lat | 10,670 | 9,923 | 7,730 | See Table 2c
Sablefish ᵃᵃ | S of 36° N lat |  |  | 2,193 | 2,165.6
Shortspine Thornyhead ᵇᵇ | N of 34°27′ N lat | 3,162 | 2,030 | 1,328 | 1,249.7
Shortspine Thornyhead ᶜᶜ | S of 34°27′ N lat |  |  | 702 | 695.3
Spiny Dogfish ᵈᵈ | Coastwide | 1,883 | 1,407 | 1,407 | 1,055.5
Splitnose ᵉᵉ | S of 40°10′ N lat | 1,766 | 1,553 | 1,553 | 1,534.3
Starry Flounder ᶠᶠ | Coastwide | 652 | 392 | 392 | 343.7
Widow Rockfish ᵍᵍ | Coastwide | 12,453 | 11,482 | 11,482 | 11,243.7
Yellowtail Rockfish ʰʰ | N of 40°10′ N lat | 5,795 | 5,291 | 5,291 | 4,263.3
Stock Complexes
Blue/Deacon/Black Rockfish ⁱⁱ | Oregon | 671 | 594 | 594 | 592.2
Cabezon/Kelp Greenling ʲʲ | Washington | 22 | 17 | 17 | 15
Cabezon/Kelp Greenling ᵏᵏ | Oregon | 198 | 180 | 180 | 179.2
Nearshore Rockfish North ˡˡ | N of 40°10′ N lat | 109 | 91 | 91 | 87.7
Nearshore Rockfish South ᵐᵐ | S of 40°10′ N lat | 1,097 | 902 | 891 | 886.5
Other Fish ⁿⁿ | Coastwide | 286 | 223 | 223 | 201.8
Other Flatfish ᵒᵒ | Coastwide | 7,946 | 4,874 | 4,874 | 4,653.2
Shelf Rockfish North ᵖᵖ | N of 40°10′ N lat | 1,610 | 1,278 | 1,278 | 1,207
Shelf Rockfish South qq | S of 40°10′ N lat | 1,833 | 1,464 | 1,464 | 1,331.4
Slope Rockfish North ʳʳ | N of 40°10′ N lat | 1,797 | 1,516 | 1,516 | 1,450.6
Slope Rockfish South ˢˢ | S of 40°10′ N lat | 868 | 697 | 697 | 658.1
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Yelloweye rockfish. The 53.3 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 42.6 mt. The non-trawl HG is 39.2 mt. The combined non-nearshore/nearshore HG is 8.2 mt. Recreational HGs are: 10 mt (Washington); 9.1 mt (Oregon); and 11.8 mt (California). In addition, the non-trawl ACT is 30.7, and the combined non-nearshore/nearshore ACT is 6.4 mt. Recreational ACTs are: 7.9 mt (Washington), 7.2 (Oregon), and 9.3 mt (California).
ᵈ Arrowtooth flounder. 2,094.98 mt is deducted from the ACL to accommodate the Tribal fishery (2,041 mt), research catch (12.98 mt) and incidental open access mortality (41 mt), resulting in a fishery HG of 12,083 mt.
ᵉ Big skate. 59.8 mt is deducted from the ACL to accommodate the Tribal fishery (15 mt), research catch (5.49 mt), and incidental open access mortality (39.31 mt), resulting in a fishery HG of 1,207.2 mt.
ᶠ Black rockfish (California). 2.26 mt is deducted from the ACL to accommodate EFP fishing (1.0 mt), research catch (0.08 mt), and incidental open access mortality (1.18 mt), resulting in a fishery HG of 326.6 mt.
ᵍ Black rockfish (Washington). 18.1 mt is deducted from the ACL to accommodate the Tribal fishery (18 mt) and research catch (0.1 mt), resulting in a fishery HG of 270.5 mt.
ʰ Bocaccio south of 40°10′ N lat. Bocaccio are managed with stock-specific harvest specifications south of 40°10′ N lat. and within the Minor Shelf Rockfish complex north of 40°10′ N lat. 48.12 mt is deducted from the ACL to accommodate EFP fishing (40 mt), research catch (5.6 mt), and incidental open access mortality (2.52 mt), resulting in a fishery HG of 1,779.9 mt. The California recreational fishery south of 40°10′ N lat. has an HG of 749.7 mt.
ⁱ Cabezon (California). 1.63 mt is deducted from the ACL to accommodate EFP fishing (1 mt), research catch (0.02 mt), and incidental open access mortality (0.61 mt), resulting in a fishery HG of 169.4 mt.
ʲ California scorpionfish south of 34°27′ N lat. 3.89 mt is deducted from the ACL to accommodate research catch (0.18 mt) and incidental open access mortality (3.71 mt), resulting in a fishery HG of 248 mt.
ᵏ Canary rockfish. 68.91 mt is deducted from the ACL to accommodate the Tribal fishery (50 mt), EFP fishing (6 mt), research catch (10.08 mt), and incidental open access mortality (2.83 mt), resulting in a fishery HG of 1,227.4 mt. The combined nearshore/non-nearshore HG is 122.4 mt. Recreational HGs are: 41.8 mt (Washington); 62.9 mt (Oregon); and 112.9 mt (California).
ˡ Chilipepper rockfish south of 40°10′ N lat. Chilipepper are managed with stock-specific harvest specifications south of 40°10′ N lat. and within the Minor Shelf Rockfish complex north of 40°10′ N lat. 97.7 mt is deducted from the ACL to accommodate EFP fishing (70 mt), research catch (14.04 mt), incidental open access mortality (13.66 mt), resulting in a fishery HG of 2,023.4 mt.
ᵐ Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 67.8 mt.
ⁿ Darkblotched rockfish. 23.76 mt is deducted from the ACL to accommodate the Tribal fishery (5 mt), EFP fishing (0.5 mt), research catch (8.46 mt), and incidental open access mortality (9.8 mt) resulting in a fishery HG of 758.7 mt.
ᵒ Dover sole. 1,597.11 mt is deducted from the ACL to accommodate the Tribal fishery (1,497 mt), research catch (50.84 mt), and incidental open access mortality (49.27 mt), resulting in a fishery HG of 48,402.9 mt.
ᵖ English sole. 259.52 mt is deducted from the ACL to accommodate the Tribal fishery (200 mt), research catch (17 mt), and incidental open access mortality (42.52 mt), resulting in a fishery HG of 8,700.5 mt.
q Lingcod north of 40°10′ N lat. 279.63 mt is deducted from the ACL for the Tribal fishery (250 mt), research catch (17.71 mt), and incidental open access mortality (11.92 mt) resulting in a fishery HG of 3,574.4 mt.
ʳ Lingcod south of 40°10′ N lat. 15.5 mt is deducted from the ACL to accommodate EFP fishing (4 mt), research catch (3.19 mt), and incidental open access mortality (8.31 mt), resulting in a fishery HG of 706.5 mt.
ˢ Longnose skate. 251.3 mt is deducted from the ACL to accommodate the Tribal fishery (220 mt), and research catch (12.46 mt), and incidental open access mortality (18.84 mt), resulting in a fishery HG of 1,408.7 mt.
ᵗ Longspine thornyhead north of 34°27′ N lat. 53.71 mt is deducted from the ACL to accommodate the Tribal fishery (30 mt), research catch (17.49 mt), and incidental open access mortality (6.22 mt), resulting in a fishery HG of 2,108.3 mt.
ᵘ Longspine thornyhead south of 34°27′ N lat. 2.24 mt is deducted from the ACL to accommodate research catch (1.41 mt) and incidental open access mortality (0.83 mt), resulting in a fishery HG of 680.8 mt.
ᵛ Pacific cod. 506 mt is deducted from the ACL to accommodate the Tribal fishery (500 mt), research catch (5.47 mt), and incidental open access mortality (0.53 mt), resulting in a fishery HG of 1,094 mt.
ʷ Pacific ocean perch north of 40°10′ N lat. Pacific ocean perch are managed with stock-specific harvest specifications north of 40°10′ N lat. and within the Minor Slope Rockfish complex south of 40°10′ N lat. 145.48 mt is deducted from the ACL to accommodate the Tribal fishery (130 mt), EFP fishing, research catch (5.39 mt), and incidental open access mortality (10.09 mt), resulting in a fishery HG of 3,297.5 mt.
ˣ Pacific hake/whiting. The 2024 OFL of 747,588mt is based on the 2024 assessment with an F40 percent of FMSY proxy. The 2024 coastwide adjusted Total Allowable Catch (TAC) is 555,000 mt. The U.S. TAC is 73.88 percent of the coastwide TAC. The 2024 adjusted U.S. TAC is 410,034 mt. From the U.S. TAC, 71,755.95 mt is deducted to accommodate the Tribal fishery, and 750 mt is deducted to accommodate research and bycatch in other fisheries, resulting in a 2024 fishery HG of 337,528.05 mt. The TAC for Pacific whiting is established under the provisions of the Agreement between the Government of the United States of America and the Government of Canada on Pacific Hake/Whiting of 2003 and the Pacific Whiting Act of 2006, 16 U.S.C. 7001-7010, and the international exception applies. Therefore, no ABC or ACL values are provided for Pacific whiting.
ʸ Petrale sole. 386.24 mt is deducted from the ACL to accommodate the Tribal fishery (350 mt), EFP fishing (1 mt), research catch (24.14 mt), and incidental open access mortality (11.1 mt), resulting in a fishery HG of 2,898.8 mt.
ᶻ Sablefish north of 36° N lat. The sablefish coastwide ACL value is not specified in regulations. The sablefish coastwide ACL value is apportioned north and south of 36° N lat., using the rolling 5-year average estimated swept area biomass from the NMFS NWFSC trawl survey, with 77.9 percent apportioned north of 36° N lat. and 22.1 percent apportioned south of 36° N lat. The northern ACL is 7,730 mt and is reduced by 773 mt for the Tribal allocation (10 percent of the ACL north of 36° N lat.). The 773 mt Tribal allocation is reduced by 1.7 percent to account for discard mortality. Detailed sablefish allocations are shown in table 1c.
ᵃᵃ Sablefish south of 36° N lat. The ACL for the area south of 36° N lat. is 2,193 mt (22.1 percent of the calculated coastwide ACL value). 27.4 mt is deducted from the ACL to accommodate research catch (2.40 mt) and the incidental open access fishery (25 mt), resulting in a fishery HG of 2,165.6 mt.
ᵇᵇ Shortspine thornyhead north of 34°27′ N lat. 78.3 mt is deducted from the ACL to accommodate the Tribal fishery (50 mt), research catch (10.48 mt), and incidental open access mortality (17.82 mt), resulting in a fishery HG of 1,249.7 mt for the area north of 34°27′ N lat.
ᶜᶜ Shortspine thornyhead south of 34°27′ N lat. 6.71 mt is deducted from the ACL to accommodate research catch (0.71 mt) and incidental open access mortality (6 mt), resulting in a fishery HG of 695.3 mt for the area south of 34°27′ N lat.
ᵈᵈ Spiny dogfish. 351.48 mt is deducted from the ACL to accommodate the Tribal fishery (275 mt), EFP fishing (1 mt), research catch (41.85 mt), and incidental open access mortality (33.63 mt), resulting in a fishery HG of 1,055.5 mt.
ᵉᵉ Splitnose rockfish south of 40°10′ N lat. Splitnose rockfish in the north is managed in the Slope Rockfish complex and with stock-specific harvest specifications south of 40°10′ N lat. 18.42 mt is deducted from the ACL to accommodate EFP fishing (1.5 mt), research catch (11.17 mt), and incidental open access mortality (5.75 mt), resulting in a fishery HG of 1,534.3 mt.
ᶠᶠ Starry flounder. 48.28 mt is deducted from the ACL to accommodate the Tribal fishery (2 mt), research catch (0.57 mt), and incidental open access mortality (45.71 mt), resulting in a fishery HG of 343.7 mt.
ᵍᵍ Widow rockfish. 238.32 mt is deducted from the ACL to accommodate the Tribal fishery (200 mt), EFP fishing (18 mt), research catch (17.27 mt), and incidental open access mortality (3.05 mt), resulting in a fishery HG of 11,243.7 mt.
ʰʰ Yellowtail rockfish north of 40°10′ N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,263.3 mt.
ⁱⁱ Black rockfish/Blue rockfish/Deacon rockfish (Oregon). 1.82 mt is deducted from the ACL to accommodate research catch (0.08 mt), and incidental open access mortality (1.74 mt), resulting in a fishery HG of 592.2 mt.
ʲʲCabezon/kelp greenling (Washington). 2 mt is deducted from the ACL to accommodate the Tribal fishery, resulting in a fishery HG is 15 mt.
ᵏᵏ Cabezon/kelp greenling (Oregon). 0.79 mt is deducted from the ACL to accommodate research catch (0.05 mt) and incidental open access mortality (0.74 mt), resulting in a fishery HG of 179.2 mt.
ˡˡ Nearshore Rockfish north of 40°10′ N lat. 3.27 mt is deducted from the ACL to accommodate the Tribal fishery (1.5 mt), research catch (0.47 mt), and incidental open access mortality (1.31 mt), resulting in a fishery HG of 87.7 mt. State-specific HGs are 17.2 mt (Washington), 30.9 mt (Oregon), and 39.9 mt (California). The ACT for copper rockfish (California) is 6.99 mt. The ACT for quillback rockfish (California) is 0.96 mt.
ᵐᵐ Nearshore Rockfish south of 40°10′ N lat. 4.54 mt is deducted from the ACL to accommodate research catch (2.68 mt) and incidental open access mortality (1.86 mt), resulting in a fishery HG of 886.5 mt. The ACT for copper rockfish is 87.73 mt. The ACT for quillback rockfish is 0.97 mt.
ⁿⁿ nn/Other Fish. The Other Fish complex is comprised of kelp greenling off California and leopard shark coastwide. 21.24 mt is deducted from the ACL to accommodate research catch (6.29 mt) and incidental open access mortality (14.95 mt), resulting in a fishery HG of 201.8 mt.
ᵒᵒ Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,653.2 mt.
ᵖᵖ Shelf Rockfish north of 40°10′ N lat. 70.94 mt is deducted from the ACL to accommodate the Tribal fishery (30 mt), research catch (15.32 mt), and incidental open access mortality (25.62 mt), resulting in a fishery HG of 1,207.1 mt.
qq Shelf Rockfish south of 40°10′ N lat. 132.77 mt is deducted from the ACL to accommodate EFP fishing (50 mt), research catch (15.1 mt), and incidental open access mortality (67.67 mt) resulting in a fishery HG of 1,331.4 mt.
ʳʳ Slope Rockfish north of 40°10′ N lat. 65.39 mt is deducted from the ACL to accommodate the Tribal fishery (36 mt), research catch (10.51 mt), and incidental open access mortality (18.88 mt), resulting in a fishery HG of 1,450.6 mt.
ˢˢ Slope Rockfish south of 40°10′ N lat. 38.94 mt is deducted from the ACL to accommodate EFP fishing (1 mt), research catch (18.21 mt), and incidental open access mortality (19.73 mt), resulting in a fishery HG of 658.1 mt. Blackgill rockfish has a stock-specific HG for the entire groundfish fishery south of 40°10′ N lat. set equal to the species' contribution to the 40-10-adjusted ACL. Harvest of blackgill rockfish in all groundfish fisheries south of 40°10′ N lat. counts against this HG of 169.9 mt.

* * * * *

4. Revise Table 2b to part 660, subpart C-2024, to read as follows:

Table 2b. to Part 660, Subpart C-2024, and Beyond, Allocations by Species or Species Group
[Weight in metric tons]
Stocks/stock complexes | Area | Fishery HG or ACT ᵃ ᵇ | Trawl: % | Trawl: mt | Non-trawl: % | Non-trawl: mt
YELLOWEYE ROCKFISH ᵃ | Coastwide | 42.6 | 8 | 3.41 | 92 | 39.2
Arrowtooth flounder | Coastwide | 12 | 95 | 11,478.9 | 5 | 604.2
Big skate ᵃ | Coastwide | 1,207.2 | 95 | 1,146.8 | 5 | 60.4
Bocaccio ᵃ | S of 40°10′ N lat | 1,779.9 | 39.04 | 694.9 | 60.96 | 1,085
Canary rockfish ᵃ | Coastwide | 1,227.4 | 72.3 | 887.4 | 27.7 | 340
Chilipepper rockfish | S of 40°10′ N lat | 2,023.4 | 75 | 1,517.6 | 25 | 505.9
Cowcod ᵃ | S of 40°10′ N lat | 67.8 | 36 | 24.4 | 64 | 43.4
Darkblotched rockfish | Coastwide | 758.7 | 95 | 720.8 | 5 | 37.9
Dover sole | Coastwide | 48,402.8 | 95 | 45,982.7 | 5 | 2,420.1
English sole | Coastwide | 8,700.5 | 95 | 8,265.5 | 5 | 435
Lingcod | N of 40°10′ N lat | 3,574.4 | 45 | 1,608.5 | 55 | 1,965.9
Lingcod ᵃ | S of 40°10′ N lat | 706.5 | 40 | 282.6 | 60 | 423.9
Longnose skate ᵃ | Coastwide | 1,408.7 | 90 | 1,267.8 | 10 | 140.9
Longspine thornyhead | N of 34°27′ N lat | 2,108.3 | 95 | 2,002.9 | 5 | 105.4
Pacific cod | Coastwide | 1,094 | 95 | 1,039.3 | 5 | 54.7
Pacific ocean perch | N of 40°10′ N lat | 3,297.5 | 95 | 3,132.6 | 5 | 164.9
Pacific whiting ᶜ | Coastwide | 337,528.05 | 100 | 337,528.05 | 0 | 0
Petrale sole ᵃ | Coastwide | 2,898.8 |  | 2,868.8 |  | 30
Sablefish | N of 36° N lat | NA | See Table 2c
Sablefish | S of 36° N lat | 2,165.6 | 42 | 909.6 | 58 | 1,256.0
Shortspine thornyhead | N of 34°27′ N lat | 1,249.7 | 95 | 1,187.2 | 5 | 62.5
Shortspine thornyhead | S of 34°27′ N lat | 695.3 |  | 50 |  | 645.3
Splitnose rockfish | S of 40°10′ N lat | 1,534.3 | 95 | 1,457.6 | 5 | 76.7
Starry flounder | Coastwide | 343.7 | 50 | 171.9 | 50 | 171.9
Widow rockfish ᵃ | Coastwide | 11,243.7 |  | 10,843.7 |  | 400
Yellowtail rockfish | N of 40°10′ N lat | 4,263.3 | 88 | 3,751.7 | 12 | 511.6
Other Flatfish | Coastwide | 4,653.2 | 90 | 4,187.9 | 10 | 465.3
Shelf Rockfish ᵃ | N of 40°10′ N lat | 1,207.1 | 60.2 | 726.7 | 39.8 | 480.4
Shelf Rockfish ᵃ | S of 40°10′ N lat | 1,331.4 | 12.2 | 162.43 | 87.8 | 1,169.0
Slope Rockfish | N of 40°10′ N lat | 1,450.6 | 81 | 1,175.0 | 19 | 2750.6
Slope Rockfish ᵃ | S of 40°10′ N lat | 658.1 | 63 | 414.6 | 37 | 243.5
ᵃ Allocations decided through the biennial specification process.
ᵇ The cowcod non-trawl allocation is further split 50:50 between the commercial and recreational sectors. This results in a sector-specific ACT of 22 mt for the commercial sector and 22 mt for the recreational sector.
ᶜ Consistent with regulations at § 660.55(i)(2), the commercial harvest guideline for Pacific whiting is allocated as follows: 34 percent for the C/P Co-op Program; 24 percent for the MS Co-op Program; and 42 percent for the Shorebased IFQ Program. No more than 5 percent of the Shorebased IFQ Program allocation may be taken and retained south of 42° N lat. before the start of the primary Pacific whiting season north of 42° N lat.

5. In § 660.140, revise paragraph (d)(1)(ii)(D) to read as follows:

§ 660.140 Shorebased IFQ Program.

* * * * *

(d) * * *

(1) * * *

(ii) * * *

(D) Shorebased trawl allocations. For the trawl fishery, NMFS will issue QP based on the following shorebased trawl allocations:

Table 1 to Paragraph (d)(1)(ii)(D)
IFQ species | Area | 2023 Shorebased trawl allocation (mt) | 2024 Shorebased trawl allocation (mt)
YELLOWEYE ROCKFISH | Coastwide | 4.42 | 4.42
Arrowtooth flounder | Coastwide | 15,640.17 | 11,408.87
Bocaccio | South of 40°10′ N lat | 700.33 | 694.87
Canary rockfish | Coastwide | 842.50 | 830.22
Chilipepper | South of 40°10′ N lat | 1,563.80 | 1517.60
Cowcod | South of 40°10′ N lat | 24.80 | 24.42
Darkblotched rockfish | Coastwide | 646.78 | 613.53
Dover sole | Coastwide | 45,972.75 | 45,972.75
English sole | Coastwide | 8,320.56 | 8,265.46
Lingcod | North of 40°10′ N lat | 1,829.27 | 1,593.47
Lingcod | South of 40°10′ N lat | 284.20 | 282.60
Longspine thornyhead | North of 34°27′ N lat | 2,129.23 | 2,002.88
Pacific cod | Coastwide | 1,039.30 | 1,039.30
Pacific halibut (IBQ) | North of 40°10′ N lat | TBD | TBD
Pacific ocean perch | North of 40°10′ N lat | 2,956.14 | 2,832.64
Pacific whiting | Coastwide | 159,681.38 | 141,761.78
Petrale sole | Coastwide | 3,063.76 | 2,863.76
Sablefish | North of 36° N lat | 3,893.50 | 3,559.38
Sablefish | South of 36° N lat | 970.00 | 889.00
Shortspine thornyhead | North of 34°27′ N lat | 1,146.67 | 1,117.22
Shortspine thornyhead | South of 34°27′ N lat | 50 | 50
Splitnose rockfish | South of 40°10′ N lat | 1,494.70 | 1,457.60
Starry flounder | Coastwide | 171.86 | 171.86
Widow rockfish | Coastwide | 11,509.68 | 10,367.68
Yellowtail rockfish | North of 40°10′ N lat | 3,761.84 | 3,668.56
Other Flatfish complex | Coastwide | 4,142.09 | 4,152.89
Shelf Rockfish complex | North of 40°10′ N lat | 694.70 | 691.65
Shelf Rockfish complex | South of 40°10′ N lat | 163.02 | 163.02
Slope Rockfish complex | North of 40°10′ N lat | 894.43 | 874.99
Slope Rockfish complex | South of 40°10′ N lat | 417.1 | 414.58

* * * * *

[FR Doc. 2024-09220 Filed 4-29-24; 8:45 am]

BILLING CODE 3510-22-P